DEPARTMENT OF JUSTICE

Office of Justice Programs

[OJP (OJJDP) Docket No. 1674]

Meeting of the Coordinating Council on Juvenile Justice and Delinquency Prevention

AGENCY: Coordinating Council on Juvenile Justice and Delinquency Prevention, DOJ.

ACTION: Notice of meeting.

SUMMARY: The Coordinating Council on Juvenile Justice and Delinquency Prevention announces its next meeting.

DATES: Date of Meeting: Tuesday, November 18, 2014, from 10:30 a.m. to 12:30 p.m. (Eastern Time).

ADDRESSES: The meeting will take place in the third floor main conference room at the U.S. Department of Justice, Office of Justice Programs, 810 7th St. NW., Washington, DC 20531.

FOR FURTHER INFORMATION CONTACT: Visit the Web site for the Coordinating Council at www.juvenilecouncil.com or contact Kathi Grasso, Designated Federal Official (DFO), OJJDP, by telephone at 202-616-7567 (not a toll-free number) or via email: Kathi.Grasso@usdoj.gov. The meeting is open to the public.

SUPPLEMENTARY INFORMATION: The Coordinating Council on Juvenile Justice and Delinquency Prevention (“Council”), established by statute in the Juvenile Justice and Delinquency Prevention Act of 1974, section 206(a) (42 U.S.C. 5616(a)), will meet to carry out its advisory functions. Documents such as meeting announcements, agendas, minutes, and reports will be available on the Council's Web page, www.juvenilecouncil.gov where you may also obtain information on the meeting.

Although designated agency representatives may attend, the Council membership consists of the Attorney General (Chair), the Administrator of the Office of Juvenile Justice and Delinquency Prevention (Vice Chair), the Secretary of Health and Human Services (HHS), the Secretary of Labor (DOL), the Secretary of Education (DOE), the Secretary of Housing and Urban Development (HUD), the Director of the Office of National Drug Control Policy, the Chief Executive Officer of the Corporation for National and Community Service, and the Assistant Secretary of Homeland Security for U.S. Immigration and Customs Enforcement. The nine additional members are appointed by the Speaker of the U.S. House of Representatives, the U.S. Senate Majority Leader, and the President of the United States. Other federal agencies take part in Council activities, including the Departments of Agriculture, Defense, Interior, and the Substance and Mental Health Services Administration of HHS.

Meeting Agenda: At this meeting, the Council will be joined by the Advisory Committee of the Attorney General's Task Force on American Indian and Alaska Native (AIAN) Children Exposed to Violence. Task Force Advisory Committee members will publicly release the findings and recommendations of their report to the Attorney General and members of the Coordinating Council. During the meeting, Council members will be afforded the opportunity to discuss these findings and recommendations with the Advisory Committee members.

The Attorney General's Task Force on AIAN Children Exposed to Violence is anchored by an Advisory Committee consisting of non-federal experts in the area of AIAN children exposed to violence and a Federal Working Group consisting of federal experts working in areas related to AIAN children exposed to violence. The Advisory Committee acts in accordance with the provisions of the Federal Advisory Committee Act as amended, 5 U.S.C. Appendix 2; and is charged specifically with investigating the issues of AIAN children exposed to violence in their homes, schools, and communities. To this end, the committee convened four public hearings across the country to collect information with the primary goal of developing policy and practice recommendations to be included in their final report to the Attorney General.

In summary, the agenda will include: (a) Welcome and introductions; (b) Presentations and discussion of the findings and recommendations of the Advisory Committee of the Attorney General's Task Force on American Indian and Alaska Native (AIAN) Children Exposed to Violence; and (c) and Agency/Practitioner Member announcements of pertinent programs and activities.

Registration: For security purposes, members of the public who wish to attend the meeting must pre-register online at www.juvenilecouncil.gov, no later than Wednesday, November 12, 2014. Should problems arise with web registration, contact Daryel Dunston at 240-432-3014 or send a request to register to Mr. Dunston. Please include name, title, organization or other affiliation, full address and phone, fax and email information and send to his attention either by fax to 866-854-6619, or by email to ddunston@aeioonline.com. Note that these are not toll-free telephone numbers. Additional identification documents may be required. Meeting space is limited.

Note: Photo identification will be required for admission to the meeting.

Written Comments: Interested parties may submit written comments and questions in advance of the meeting by Wednesday, November 12, 2014, to Kathi Grasso, Designated Federal Official for the Coordinating Council on Juvenile Justice and Delinquency Prevention, at Kathi.Grasso@usdoj.gov. Alternatively, fax your comments to 202-307-2819 and contact Joyce Mosso Stokes at 202-305-4445 to ensure that they are received. These are not toll-free numbers.

The Council expects that the public statements submitted will not repeat previously submitted statements.

Dated: September 15, 2014.
Robert L. Listenbee,
Administrator, Office of Juvenile Justice and Delinquency Prevention.

[FR Doc. 2014-22361 Filed 9-18-14; 8:45 am]

BILLING CODE 4410-18-P